DEPARTMENT OF TRANSPORTATION

Office of the Secretary

Aviation Proceedings, Agreements Filed the Week Ending June 22, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28558.

Date Filed: June 19, 2007.

Parties: Members of the International Air Transport Association.

Subject: Resolution 047a—Provisions for Inclusive Tours except between points in the ECAA, between Canada, USA and Europe.

Resolution 090—Individual Fares for Ship Crews except between points in the ECAA, between Canada, USA and Europe.

Resolution 092—Student Fares except between points in the ECAA, between Canada, USA and Europe.

Resolution 200h—Free and Reduced Fare Transportation for Inaugural Flights except between points in the ECAA, between Canada, USA and Europe.

Intended effective date: 1 July 2007.

Docket Number: OST-2007-28555.

Date Filed: June 19, 2007.

Parties: Members of the International Air Transport Association.

Subject: CAC/35/Meet/008/07 dated Normal Resolutions 801, 801r, 801re, 803, 805, 805ee, 805g, 805zz, 807, 809, 813, 815, 887b.

(Minutes relevant to the Resolutions are included in CAC/35/Meet/006/07 dated 01 May 2007).

Intended effective date: 1 October 2007.

Docket Number: OST-2007-28556.

Date Filed: June 19, 2007.

Parties: Members of the International Air Transport Association.

Subject: Resolution 111aa TC12 Flex Fares between Canada and USA-Europe.

Resolution 044aa—Intermediate/Business Class Flex Fares between Canada and USA-Europe.

Resolution 054aa—First Class Flex Fares between Canada and USA-Europe.

Resolution 064aa—Economy Class Flex Fares between Canada and USA-Europe.

Intended effective date: 1 July 2007.

Docket Number: OST-2007-28568.

Date Filed: June 20, 2007.

Parties: Members of the International Air Transport Association.

Subject: 250n Improved Seating Surcharge.

Expedited effective date: 1 July 2007.

Docket Number: OST-2007-28569.

Date Filed: June 20, 2007.

Parties: Members of the International Air Transport Association.

Subject: 002 Special Amending Resolution between South West Pacific and North America, Caribbean.

111dd South Pacific Flex Fares, South West Pacific-Canada, USA (except between French Polynesia, New Caledonia, New Zealand and USA) via PA.

046dd Intermediate/Business Class Flex Fares, South West Pacific-Canada, USA (except between French Polynesia, New Caledonia, New Zealand and USA) via PA.

056dd First Class Flex Fares, South West Pacific-Canada, USA (except between French Polynesia, New Caledonia, New Zealand and USA) via PA.

066dd Economy Class Flex Fares, South West Pacific-Canada, USA (except between French Polynesia, New Caledonia, New Zealand and USA) via PA.

Intended effective date: 1 July for Implementation.

1 September 2007.

Docket Number: OST-2007-28570.

Date Filed: June 20, 2007.

Parties: Members of the International Air Transport Association.

Subject: 047a Provisions for Inclusive Tours.

090 Individual Fares for Ship Crews.

200h Free and Reduced Fare Transportation for Inaugural Flights.

Intended effective date: 1 September 2007.

Barbara J. Hairston,
Supervisory Docket Officer, Docket Operations, Alternate Federal Register Liaison.

[FR Doc. E7-14771 Filed 7-30-07; 8:45 am]

BILLING CODE 4910-9X-P